SMALL BUSINESS ADMINISTRATION

[Disaster Declaration #20613 and #20614; CHEYENNE RIVER SIOUX TRIBE Disaster Number SD-20004]

Presidential Declaration Amendment of a Major Disaster for the Cheyenne River Sioux Tribe

AGENCY: U.S. Small Business Administration.

ACTION: Amendment 1.

SUMMARY: This is an amendment of the Presidential declaration of a major disaster for the Cheyenne River Sioux Tribe (FEMA-4842-DR), dated November 1, 2024.

Incident: Severe Storm, Straight-line Winds, and Flooding.

DATES: Issued on December 3, 2024.

Incident Period: July 13, 2024 through July 14, 2024.

Physical Loan Application Deadline Date: January 20, 2025.

Economic Injury (EIDL) Loan Application Deadline Date: August 1, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the Cheyenne River Sioux Tribe, dated November 1, 2024, is hereby amended to extend the deadline for filing applications for physical damages as a result of this disaster to January 20, 2025.

All other information in the original declaration remains unchanged.

(Catalog of Federal Domestic Assistance Number 59008)

Alejandro Contreras,
Acting Deputy Associate Administrator, Office of Disaster Recovery & Resilience.

[FR Doc. 2024-28815 Filed 12-6-24; 8:45 am]

BILLING CODE 8026-09-P